DEPARTMENT OF HEALTH AND HUMAN SERVICES

Health Resources and Services Administration

Meeting of the Advisory Committee on Training in Primary Care Medicine and Dentistry

AGENCY: Health Resources and Services Administration (HRSA), Department of Health and Human Services (HHS).

ACTION: Notice.

SUMMARY: The Advisory Committee on Training in Primary Care Medicine and Dentistry (ACTPCMD) has scheduled public meetings for the 2019 calendar year (CY). Information about ACTPCMD, agendas, and materials for these meetings can be found on the ACTPCMD website at https://www.hrsa.gov/advisory-committees/primarycare-dentist/index.html.

DATES: June 11, 2019, 8:30 a.m. Eastern Time (ET)-5:00 p.m. ET; August 8, 2019, 8:30 a.m.-5:00 p.m. ET.

ADDRESSES: Meetings may be held in-person, by teleconference, and/or via Adobe Connect webinar. In-person ACTPCMD meetings will be held at 5600 Fishers Lane, Rockville, Maryland 20857. Instructions for joining the meetings either in person or remotely will be posted on the ACTPCMD website 30 business days before the date of the meeting. For meeting information updates, visit the ACTPCMD website meeting page at https://www.hrsa.gov/advisory-committees/primarycare-dentist/meetings.html

FOR FURTHER INFORMATION CONTACT: Kennita Carter, MD, Designated Federal Official (DFO), Division of Medicine and Dentistry, Bureau of Health Workforce (BHW), HRSA, 5600 Fishers Lane, 15N116, Rockville, Maryland 20857; (301) 945-3505 or BHWACTPCMD@hrsa.gov.

SUPPLEMENTARY INFORMATION: ACTPCMD provides advice and recommendations to the Secretary of HHS (Secretary) on policy, program development, and other matters of significance concerning the activities under Section 747 of Title VII of the Public Health Service (PHS) Act, as it existed upon the enactment of Section 749 of the PHS Act in 1998. ACTPCMD prepares an annual report describing the activities of the committee, including findings and recommendations made by the committee concerning the activities under Section 747, as well as training programs in oral health and dentistry. The annual report is submitted to the Secretary, Chairman, and ranking members of the Senate Committee on Health, Education, Labor and Pensions, and the House of Representatives Committee on Energy and Commerce. ACTPCMD also develops, publishes, and implements performance measures and guidelines for longitudinal evaluations of programs authorized under Title VII, Part C of the PHS Act, and recommends appropriation levels for programs under this Part.

During ACTPCMD's CY 2019 meetings, the committee will discuss matters concerning policy, program development, and other matters of significance concerning medicine and dentistry activities. Refer to the ACTPCMD website listed above for all current and updated information concerning CY 2019 ACTPCMD meetings, including draft agendas and meeting materials that will be posted at least 10 business days before the start of each meeting.

Members of the public will have the opportunity to provide comments. Public participants may submit written statements in advance of the scheduled meeting(s). Oral comments will be honored in the order they are requested and may be limited as time allows. Requests to submit a written statement or make oral comments to the ACTPCMD should be sent to Kennita Carter using the contact information above at least five business days before the meeting date(s).

Individuals who need special assistance or another reasonable accommodation should notify Kennita Carter using the contact information listed above at least 10 business days before the meeting(s) they wish to attend. Since all in-person meetings will occur in a federal government building, attendees must go through a security check to enter the building. Non-U.S. Citizen attendees must notify HRSA of their planned attendance at least 20 business days prior to the meeting in order to facilitate their entry into the building. All attendees are required to present government-issued identification prior to entry.

Amy P. McNulty,
Acting Director, Division of the Executive Secretariat.

[FR Doc. 2019-02318 Filed 2-13-19; 8:45 am]

BILLING CODE 4165-15-P